DEPARTMENT OF HEALTH AND HUMAN SERVICES

Administration for Children and Families

Submission for OMB Review; Comment Request

Title: Child Care and Development Fund Plan for States/Territories for FY 2008-2009.

OMB No.: 0970-0114.

Description: The Child Care and Development Fund (CCDF) Plan (the Plan) for States and Territories is required from each CCDF Lead agency in accordance with Section 658E of the Child Care and Development Block Grant Act of 1990, as amended (Pub. L. 101-508, Pub. L. 104-193, and 42 U.S.C. 9858). The implementing regulations for the statutorily required Plan are set forth at 45 CFR 98.10 through 98.18. The Plan, submitted on the ACF-118, is required biennially, and remains in effect for two years. The Plan provides ACF and the public with a description of, and assurance about, the State's or the Territory's child care program. The ACF-118 is currently approved through June 30, 2008, making it available to states and Territories needing to submit Plan Amendments through the end of the FY 2007 Plan Period. However, in July 2007, States and Territories will be required to submit their FY 2008-2009 Plans. Consistent with the statute and regulations, ACF requests extension of the ACF-118 with minor corrections and modifications. The Tribal Plan (ACF-118a) is not affected by this notice.

Respondents: State and Territorial CCDF Lead Agencies.

Annual Burden Estimates
Instrument | Number of respondents | Number of responses per respondent | Average burden hours per response | Total burden hours
ACF-118 | 56 | .5 | 162.57 | 4,552
Estimated Total Annual Burden Hours: 4,552

Additional Information: Copies of the proposed collection may be obtained by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after the publication of this document in the Federal Register. Therefore, a comment is best assured of having its full effect if OMB receives it within 30 days of publication. Written comments and recommendations for the proposed information collection should be sent directly to the following: Office of Management and Budget, Paperwork Reduction Project, FAX: 202-395-6974, Attn: Desk Officer for the Administration for Children and Families.

Dated: February 13, 2007.
Robert Sargis,
Reports Clearance Officer.

[FR Doc. 07-772 Filed 2-20-07; 8:45 am]

BILLING CODE 4184-01-M